DEPARTMENT OF ENERGY

Federal Energy Regulatory Commission

Combined Notice of Filings #1

September 28, 2010.

Take notice that the Commission received the following exempt wholesale generator filings:

Docket Numbers: EG10-71-000.

Applicants: Sundevil Power Holdings, LLC.

Description: Sundevil Power Holdings, LLC, Notice of Self-Certification as an Exempt Wholesale Generator.

Filed Date: 09/28/2010.

Accession Number: 20100928-5364.

Comment Date: 5 p.m. Eastern Time on Tuesday, October 19, 2010.

Take notice that the Commission received the following electric rate filings:

Docket Numbers: ER93-3-008.

Applicants: The United Illuminating Company.

Description: United Illuminating submits a revised MBR Tariff making the required change.

Filed Date: 09/27/2010.

Accession Number: 20100928-0206.

Comment Date: 5 p.m. Eastern Time on Monday, October 18, 2010.

Docket Numbers: ER96-719-029; ER97-2801-031; ER07-1236-006; ER99-2156-022.

Applicants: MidAmerican Energy Company; PacifiCorp; Yuma Cogeneration Associates; Cordova Energy Company LLC.

Description: Notice of Change in Status of PacifiCorp.

Filed Date: 09/27/2010.

Accession Number: 20100927-5188.

Comment Date: 5 p.m. Eastern Time on Monday, October 18, 2010.

Docket Numbers: ER98-1643-018.

Applicants: Portland General Electric Company.

Description: Clarification of June 29, 2010 Triennial Market Power Update Filing of Portland General Electric Company.

Filed Date: 09/27/2010.

Accession Number: 20100927-5269.

Comment Date: 5 p.m. Eastern Time on Monday, October 18, 2010.

Docket Numbers: ER99-1005-013; ER09-304-004.

Applicants: Kansas City Power & Light Company, KCP&L Greater Missouri Operations Company.

Description: Supplement to Notice of Non-Material Change in Status of Kansas City Power & Light Company, et al.

Filed Date: 09/27/2010.

Accession Number: 20100927-5191.

Comment Date: 5 p.m. Eastern Time on Monday, October 18, 2010.

Docket Numbers: ER10-2071-001.

Applicants: Northern States Power Company, a Minnesota Corporation

Description: Northern States Power Company, a Minnesota Corporation submits tariff filing per 35: 2010-09-28 NSPM Amend Concur to be effective 7/30/2010.

Filed Date: 09/28/2010.

Accession Number: 20100928-5283.

Comment Date: 5 p.m. Eastern Time on Tuesday, October 19, 2010.

Docket Numbers: ER10-2075-001.

Applicants: Southwestern Public Service Company.

Description: Southwestern Public Service Company submits tariff filing per 35: 2010-09-28 SPS Amend Concur to be effective 7/30/2010.

Filed Date: 09/28/2010.

Accession Number: 20100928-5287.

Comment Date: 5 p.m. Eastern Time on Tuesday, October 19, 2010.

Docket Numbers: ER10-2622-001.

Applicants: Northern States Power Company, a Minneso.

Description: Northern States Power Company, a Minnesota corporation submits tariff filing per 35.17(b): 2010_09_28 NSP Amendment Rate Schedule 602 to be effective 1/1/2011.

Filed Date: 09/28/2010.

Accession Number: 20100928-5321.

Comment Date: 5 p.m. Eastern Time on Tuesday, October 19, 2010.

Docket Numbers: ER10-2978-001.

Applicants: Pacific Gas and Electric Company.

Description: Pacific Gas and Electric Company submits tariff filing per 35.17(b): Amendment to Filing to Revise CAISO Black Start Agreement to be effective 9/27/2010.

Filed Date: 09/27/2010.

Accession Number: 20100927-5264

Comment Date: 5 p.m. Eastern Time on Monday, October 18, 2010.

Docket Numbers: ER10-3034-000.

Applicants: TC Energy Trading, LLC.

Description: TC Energy Trading, LLC submits tariff filing per 35.12: TC Energy Trading FERC Electric Tariff to be effective 9/27/2010.

Filed Date: 09/27/2010.

Accession Number: 20100927-5187.

Comment Date: 5 p.m. Eastern Time on Monday, October 18, 2010.

Docket Numbers: ER10-3035-000.

Applicants: Twin Cities Energy, LLC.

Description: Twin Cities Energy, LLC submits tariff filing per 35.12: Twin Cities Energy FERC Electric Tariff to be effective 9/27/2010.

Filed Date: 09/27/2010.

Accession Number: 20100927-5189.

Comment Date: 5 p.m. Eastern Time on Monday, October 18, 2010.

Docket Numbers: ER10-3036-000.

Applicants: WPS Power Development, LLC.

Description: WPS Power Development, LLC submits tariff filing per 35.12: WPS Power Development Market Based Rate Baseline Tariff to be effective 9/27/2010.

Filed Date: 09/27/2010.

Accession Number: 20100927-5193.

Comment Date: 5 p.m. Eastern Time on Monday, October 18, 2010.

Docket Numbers: ER10-3037-000.

Applicants: Twin Cities Power, LLC.

Description: Twin Cities Power, LLC submits tariff filing per 35.12: Twin Cities Power FERC Electric Tariff to be effective 9/27/2010.

Filed Date: 09/27/2010.

Accession Number: 20100927-5196.

Comment Date: 5 p.m. Eastern Time on Monday, October 18, 2010.

Docket Numbers: ER10-3038-000.

Applicants: WPS Beaver Falls Generation, LLC.

Description: WPS Beaver Falls Generation, LLC submits tariff filing per 35.12: WPS Beaver Falls Market Based Rate Baseline Tariff to be effective 9/27/2010.

Filed Date: 09/27/2010.

Accession Number: 20100927-5199.

Comment Date: 5 p.m. Eastern Time on Monday, October 18, 2010.

Docket Numbers: ER10-3039-000.

Applicants: Quest Energy, LLC.

Description: Quest Energy, LLC submits tariff filing per 35.12: Quest Energy Market Based Rate Baseline Tariff to be effective 9/27/2010.

Filed Date: 09/27/2010.

Accession Number: 20100927-5203.

Comment Date: 5 p.m. Eastern Time on Monday, October 18, 2010.

Docket Numbers: ER10-3040-000.

Applicants: WPS Syracuse Generation, LLC.

Description: WPS Syracuse Generation, LLC submits tariff filing per 35.12: WPS Syracuse Market Based Rate Baseline Tariff to be effective 9/27/2010.

Filed Date: 09/27/2010.

Accession Number: 20100927-5215.

Comment Date: 5 p.m. Eastern Time on Monday, October 18, 2010.

Docket Numbers: ER10-3041-000.

Applicants: WPS Westwood Generation, LLC.

Description: WPS Westwood Generation, LLC submits tariff filing per 35.12: WPS Westwood Gen Market Based Rate Baseline Tariff to be effective 9/27/2010.

Filed Date: 09/27/2010.

Accession Number: 20100927-5219.

Comment Date: 5 p.m. Eastern Time on Monday, October 18, 2010.

Docket Numbers: ER10-3042-000.

Applicants: Combined Locks Energy Center, LLC.

Description: Combined Locks Energy Center, LLC submits tariff filing per 35.12: Combined Locks Market Based Rate Baseline Tariff to be effective 9/27/2010.

Filed Date: 09/27/2010.

Accession Number: 20100927-5220.

Comment Date: 5 p.m. Eastern Time on Monday, October 18, 2010.

Docket Numbers: ER10-3043-000.

Applicants: New York Independent System Operator, Inc.

Description: New York Independent System Operator, Inc. submits tariff filing per 35.13(a)(2)(iii): 205 Filing—ICAP In-City Buyer Side Mitigation Measure 09/27/10 to be effective 9/28/2010.

Filed Date: 09/27/2010.

Accession Number: 20100927-5221.

Comment Date: 5 p.m. Eastern Time on Monday, October 18, 2010.

Docket Numbers: ER10-3044-000.

Applicants: Williams Flexible Generation, LLC.

Description: Williams Flexible Generation, LLC submits tariff filing per 35.12: Baseline Electronic Tariff Filing to be effective 9/27/2010.

Filed Date: 09/27/2010.

Accession Number: 20100927-5224.

Comment Date: 5 p.m. Eastern Time on Monday, October 18, 2010.

Docket Numbers: ER10-3045-000.

Applicants: California Independent System Operator Corporation.

Description: California Independent System Operator Corporation submits tariff filing per 35.13(a)(2)(iii): 2010-09-27 CAISO Service Agreement 1464, LGIA for PGE Collinsville Wind Project to be effective 10/9/2010.

Filed Date: 09/27/2010.

Accession Number: 20100927-5225.

Comment Date: 5 p.m. Eastern Time on Monday, October 18, 2010.

Docket Numbers: ER10-3046-000.

Applicants: Camp Grove Wind Farm LLC.

Description: Camp Grove Wind Farm LLC submits tariff filing per 35.12: Camp Grove MBR Baseline to be effective 9/27/2010.

Filed Date: 09/27/2010.

Accession Number: 20100927-5227.

Comment Date: 5 p.m. Eastern Time on Monday, October 18, 2010.

Docket Numbers: ER10-3048-000.

Applicants: Longview Fibre Paper and Packaging, Inc.

Description: Longview Fibre Paper and Packaging, Inc. submits tariff filing per 35.12: Longview Fibre Paper and Packaging, Inc. Baseline Market-Based Rate Tariff to be effective 9/27/2010.

Filed Date: 09/27/2010.

Accession Number: 20100927-5243.

Comment Date: 5 p.m. Eastern Time on Monday, October 18, 2010.

Docket Numbers: ER10-3049-000.

Applicants: Champion Energy Services, LLC.

Description: Champion Energy Services, LLC submits tariff filing per 35.12: MBR application to be effective 9/27/2010.

Filed Date: 09/27/2010.

Accession Number: 20100927-5244.

Comment Date: 5 p.m. Eastern Time on Monday, October 18, 2010.

Docket Numbers: ER10-3050-000.

Applicants: Cabazon Wind Partners, LLC.

Description: Cabazon Wind Partners, LLC submits tariff filing per 35.12: Cabazon Wind Partners, LLC MBR Tariff to be effective 9/27/2010.

Filed Date: 09/27/2010.

Accession Number: 20100927-5247.

Comment Date: 5 p.m. Eastern Time on Monday, October 18, 2010.

Docket Numbers: ER10-3051-000.

Applicants: Champion Energy, LLC.

Description: Champion Energy, LLC submits tariff filing per 35.12: MBR application to be effective 9/27/2010.

Filed Date: 09/27/2010.

Accession Number: 20100927-5249.

Comment Date: 5 p.m. Eastern Time on Monday, October 18, 2010.

Docket Numbers: ER10-3052-000.

Applicants: Rock River I, LLC.

Description: Rock River I, LLC submits tariff filing per 35.12: Rock River I, LLC MBR Tariff to be effective 9/27/2010.

Filed Date: 09/27/2010.

Accession Number: 20100927-5250.

Comment Date: 5 p.m. Eastern Time on Monday, October 18, 2010.

Docket Numbers: ER10-3053-000.

Applicants: Whitewater Hill Wind Partners, LLC.

Description: Whitewater Hill Wind Partners, LLC submits tariff filing per 35.12: Whitewater Hill Wind Partners, LLC MBR Tariff to be effective 9/27/2010.

Filed Date: 09/27/2010.

Accession Number: 20100927-5253.

Comment Date: 5 p.m. Eastern Time on Monday, October 18, 2010.

Docket Numbers: ER10-3054-000.

Applicants: Peaker LLC.

Description: Peaker LLC submits tariff filing per 35.12: Peaker LLC MBR Tariff to be effective 9/27/2010.

Filed Date: 09/27/2010.

Accession Number: 20100927-5259.

Comment Date: 5 p.m. Eastern Time on Monday, October 18, 2010.

Docket Numbers: ER10-3055-000.

Applicants: Eagle Creek Hydro Power, LLC.

Description: Eagle Creek Hydro Power, LLC submits tariff filing per 35.12: Baseline Filing for Eagle Creek MBR Tariff to be effective 9/27/2010.

Filed Date: 09/27/2010.

Accession Number: 20100927-5260.

Comment Date: 5 p.m. Eastern Time on Monday, October 18, 2010.

Docket Numbers: ER10-3056-000.

Applicants: Grays Ferry Cogeneration Partners.

Description: Grays Ferry Cogeneration Partners submits tariff filing per 35.12: Grays Ferry Cogeneration Partnership MBR Tariff to be effective 9/27/2010.

Filed Date: 09/27/2010.

Accession Number: 20100927-5263.

Comment Date: 5 p.m. Eastern Time on Monday, October 18, 2010.

Docket Numbers: ER10-3057-000.

Applicants: Dow Pipeline Company.

Description: Dow Pipeline Company submits tariff filing per 35.12: DPL Baseline MBR Filing to be effective 9/28/2010.

Filed Date: 09/28/2010.

Accession Number: 20100928-5139.

Comment Date: 5 p.m. Eastern Time on Tuesday, October 19, 2010.

Docket Numbers: ER10-3058-000.

Applicants: Pinelawn Power, LLC.

Description: Pinelawn Power, LLC submits tariff filing per 35.12: Pinelawn Power Market Based Rate Baseline Tariff to be effective 9/28/2010.

Filed Date: 09/28/2010.

Accession Number: 20100928-5140.

Comment Date: 5 p.m. Eastern Time on Tuesday, October 19, 2010.

Docket Numbers: ER10-3059-000.

Applicants: Equus Power I, L.P.

Description: Equus Power I, L.P. submits tariff filing per 35.12: Equus Power I Market Based Rate Baseline Tariff to be effective 9/28/2010.

Filed Date: 09/28/2010.

Accession Number: 20100928-5141.

Comment Date: 5 p.m. Eastern Time on Tuesday, October 19, 2010.

Docket Numbers: ER10-3060-000.

Applicants: Powerex Corp.

Description: Powerex Corp submits the First Revised Rate Schedule No. 5.

Filed Date: 09/27/2010.

Accession Number: 20100928-0205.

Comment Date: 5 p.m. Eastern Time on Monday, October 18, 2010.

Docket Numbers: ER10-3061-000.

Applicants: Orange Grove Energy, L.P.

Description: Orange Grove Energy, L.P. submits tariff filing per 35.12: Orange Grove Energy Market Based Rate Baseline Tariff to be effective 9/28/2010.

Filed Date: 09/28/2010.

Accession Number: 20100928-5146.

Comment Date: 5 p.m. Eastern Time on Tuesday, October 19, 2010.

Docket Numbers: ER10-3062-000.

Applicants: Maine Public Service Company.

Description: Maine Public Service Co submits notices of cancellation of tariffs and rate schedules.

Filed Date: 09/27/2010.

Accession Number: 20100928-0204.

Comment Date: 5 p.m. Eastern Time on Monday, October 18, 2010.

Docket Numbers: ER10-3063-000.

Applicants: Green Country Energy, LLC.

Description: Green Country Energy, LLC submits tariff filing per 35.12: Green Country Market Based Rate Baseline Tariff to be effective 9/28/2010.

Filed Date: 09/28/2010.

Accession Number: 20100928-5147.

Comment Date: 5 p.m. Eastern Time on Tuesday, October 19, 2010.

Docket Numbers: ER10-3064-000.

Applicants: Maine Public Service Company.

Description: Maine Public Service Company submits notice of cancellation for certain service agreements.

Filed Date: 09/27/2010.

Accession Number: 20100928-0203.

Comment Date: 5 p.m. Eastern Time on Monday, October 18, 2010.

Docket Numbers: ER10-3065-000.

Applicants: Shoreham Energy, LLC.

Description: Shoreham Energy, LLC submits tariff filing per 35.12: Shoreham Energy Market Based Rate Baseline Tariff to be effective 9/28/2010.

Filed Date: 09/28/2010.

Accession Number: 20100928-5148.

Comment Date: 5 p.m. Eastern Time on Tuesday, October 19, 2010.

Docket Numbers: ER10-3066-000.

Applicants: Edgewood Energy, LLC.

Description: Edgewood Energy, LLC submits tariff filing per 35.12: Edgewood Energy Market Based Rate Baseline Tariff to be effective 9/28/2010.

Filed Date: 09/28/2010.

Accession Number: 20100928-5149.

Comment Date: 5 p.m. Eastern Time on Tuesday, October 19, 2010.

Docket Numbers: ER10-3067-000.

Applicants: Trigen-St. Louis Energy Corporation.

Description: Trigen-St. Louis Energy Corporation submits tariff filing per 35.12: Trigen-St. Louis Energy Corporation MBR Tariff to be effective 9/28/2010.

Filed Date: 09/28/2010.

Accession Number: 20100928-5151.

Comment Date: 5 p.m. Eastern Time on Tuesday, October 19, 2010.

Docket Numbers: ER10-3068-000.

Applicants: American Transmission Company LLC.

Description: American Transmission Company LLC submits filing to cancel its Open Access Transmission Tariff, FERC Electric Tariff 1.

Filed Date: 09/27/2010.

Accession Number: 20100928-0202

Comment Date: 5 p.m. Eastern Time on Monday, October 18, 2010.

Docket Numbers: ER10-3069-000.

Applicants: Alcoa Power Generating Inc.

Description: Alcoa Power Generating Inc. submits tariff filing per 35.12: APGI MBR Baseline Filing to be effective 8/31/2010.

Filed Date: 09/28/2010.

Accession Number: 20100928-5183.

Comment Date: 5 p.m. Eastern Time on Tuesday, October 19, 2010.

Docket Numbers: ER10-3070-000.

Applicants: Alcoa Power Marketing LLC.

Description: Alcoa Power Marketing LLC submits tariff filing per 35.12: APM MBR Baseline Filing to be effective 8/31/2010.

Filed Date: 09/28/2010.

Accession Number: 20100928-5185.

Comment Date: 5 p.m. Eastern Time on Tuesday, October 19, 2010.

Docket Numbers: ER10-3071-000.

Applicants: CalPeak Power—Border LLC.

Description: CalPeak Power—Border LLC submits tariff filing per 35.12: CalPeak Power—Border FERC Electric Tariff to be effective 9/28/2010.

Filed Date: 09/28/2010.

Accession Number: 20100928-5193.

Comment Date: 5 p.m. Eastern Time on Tuesday, October 19, 2010.

Docket Numbers: ER10-3072-000.

Applicants: CalPeak Power—El Cajon LLC.

Description: CalPeak Power—El Cajon LLC submits tariff filing per 35.12: CalPeak Power—El Cajon FERC Electric Tariff to be effective 9/28/2010.

Filed Date: 09/28/2010.

Accession Number: 20100928-5194.

Comment Date: 5 p.m. Eastern Time on Tuesday, October 19, 2010.

Docket Numbers: ER10-3074-000.

Applicants: CalPeak Power—Enterprise LLC.

Description: CalPeak Power—Enterprise LLC submits tariff filing per 35.12: CalPeak Power—Enterprise FERC Electric Tariff to be effective 9/28/2010.

Filed Date: 09/28/2010.

Accession Number: 20100928-5197.

Comment Date: 5 p.m. Eastern Time on Tuesday, October 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25095 Filed 10-5-10; 8:45 am]

BILLING CODE 6717-01-P